DEPARTMENT OF THE INTERIOR

Bureau of Land Management

[LLCAN01000 L10200000.XZ0000 16X LXSIOVHD0000]

Notice of Public Meeting: Northern California Resource Advisory Council

AGENCY: Bureau of Land Management, Interior

ACTION: Notice of public meeting

SUMMARY: In accordance with the Federal Land Policy and Management Act of 1976 (FLPMA), and the Federal Advisory Committee Act of 1972 (FACA), the U. S. Department of the Interior, Bureau of Land Management (BLM), Northern California Resource Advisory Council will meet as indicated below.

DATES: The meeting will be held Thursday and Friday, April 7 and 8, 2016, at the Bureau of Land Management Eagle Lake Field Office, 2550 Riverside Drive, Susanville, California. On April 7, the council will convene at 9 a.m. and depart for a field tour focusing on wild horse and burro herd management on public lands. Members of the public are welcome. They must provide their own transportation in a high-clearance four-wheel-drive vehicle, meals and beverages. On April 8, the council will convene a business meeting at 8 a.m. in conference room at the BLM office. The meeting is open to the public. Public Comments will be accepted at 11 a.m.

FOR FURTHER INFORMATION CONTACT: BLM Northern California District Manager Nancy Haug, (530) 224-2160; or Public Affairs Officer Joseph J. Fontana, (530) 252-5332. Persons who use a telecommunications device for the deaf (TDD) may call the Federal Information Relay Service (FIRS) at (800) 877-8339, to contact the above individual during normal business hours. The FIRS is available 24 hours a day, 7 days a week, to leave a message or question with the above individual. You will receive a reply during normal business hours.

SUPPLEMENTARY INFORMATION: The 15-member council advises the Secretary of the Interior, through the BLM, on a variety of planning and management issues associated with public land management on BLM-administered lands in northern California and far northwest Nevada. At this meeting the RAC will discuss development of the Northern California Integrated Resource Management Plan, hear an overview of the BLM's management of wild horses and burros, hear an update on implementation of conservation plans for greater sage-grouse and receive update reports from BLM Northern California District Field Offices. All meetings are open to the public. Members of the public may present written comments to the council. Each formal council meeting will have time allocated for public comments. Depending on the number of persons wishing to speak, and the time available, the time for individual comments may be limited. Members of the public are welcome on field tours, but they must provide their own transportation and meals. Individuals who plan to attend and need special assistance, such as sign language interpretation and other reasonable accommodations, should contact the BLM as provided above.

Martha Maciel,
Deputy State Director, Office of Communications.

[FR Doc. 2016-01738 Filed 1-29-16; 8:45 am]

BILLING CODE 4310-40-P